DEPARTMENT OF THE INTERIOR

National Park Service

National Register of Historic Places, Notice on NHL Boundaries

The National Park Service has been working to establish boundaries for all National Historic Landmarks for which no specified boundary was identified at the time of designation and therefore are without a clear delineation of the property involved.

In accordance with the National Historic Landmark program regulations 36 CFR 65, the National Park Service notifies owners, public officials and other interested parties and gives them an opportunity to comment on the proposed boundary documentation.

Comments on the proposed documentation for the National Historic Landmark listed below and the boundaries it defines will be received for 60 days from the date of this notice. Please address comments to Carol D. Shull, Chief of the National Historic Landmarks Survey and Keeper of the National Register of Historic Places, National Register, History and Education, National Park Service, 1849 C Street, NW, Suite NC 400, Washington, DC 20240, Attention: Sarah Pope (e-mail: sarah_pope@nps.gov). Copies of the documentation, including maps, may be obtained from that same office.

Grant-Kohrs Ranch National Historic Landmark, Deer Lodge, Powell County, Montana. Designated a Landmark on December 19, 1960.

Carol D. Shull,
Chief of the National Historic Landmarks Survey and Keeper of the National Register of Historic Places, National Register, History and Education.

[FR Doc. 01-26887 Filed 10-24-01; 8:45 am]

BILLING CODE 4310-70-P